DEPARTMENT OF TRANSPORTATION

Federal Aviation Administration

14 CFR Part 91

[Docket No. FAA-2007-29015; Amdt. No. 91- 311]

RIN 2120-AJ10

Certification of Aircraft and Airmen for the Operation of Light-Sport Aircraft; Modifications to Rules for Sport Pilots and Flight Instructors With a Sport Pilot Rating; OMB Approval of Information Collection

AGENCY: Federal Aviation Administration, DOT.

ACTION: Final rule; OMB approval of information collection.

SUMMARY: This document announces the Office of Management and Budget's (OMB's) approval of the information collection requirement contained in the FAA's final rule, “Certification of Aircraft and Airmen for the Operation of Light-Sport Aircraft; Modifications to Rules for Sport Pilots and Flight Instructors With a Sport Pilot Rating,” which was published on February 1, 2010.

DATES: The final rule published on February 1, 2010, became effective on April 2, 2010. However, because it contained information collection requirements, compliance with the provisions contained in § 91.417 (a) was not required until those collection requirements are approved. This document announces that OMB approval was received on July 7, 2010.

FOR FURTHER INFORMATION CONTACT: For technical questions concerning this document, contact Larry L. Buchanan, Light-Sport Aviation Branch, AFS-610, Regulatory Support Division, Flight Standards Service, Federal Aviation Administration, 6500 South MacArthur Blvd., Oklahoma City, OK 73169; telephone (405) 954-6400. Mailing address: Light-Sport Aviation Branch, AFS-610; P.O. Box 25082; Oklahoma City, OK 73125.

For legal questions concerning this document, contact Paul G. Greer, Regulations Division, AGC-200, Federal Aviation Administration, 800 Independence Ave., SW., Washington, DC 20591; telephone (202) 267-3073; e-mail paul.g.greer@faa.gov.

SUPPLEMENTARY INFORMATION: On February 1, 2010, the final rule, “Certification of Aircraft and Airmen for the Operation of Light-Sport Aircraft; Modifications to Rules for Sport Pilots and Flight Instructors With a Sport Pilot Rating” was published in the Federal Register (75 FR 5204). In that rule, the FAA amended its requirements for sport pilots and flight instructors with a sport pilot rating to address airman certification and operational issues that arose after regulations for the certification of aircraft and airmen for the operation of light-sport aircraft were implemented in 2004.

In the DATES section of the final rule, the FAA noted that affected parties were not required to comply with the new information collection requirements in § 91.417 (incorrectly referenced in the DATES section as § 91.419) until OMB approved the FAA's request to collect the information. Paragraph (a) of § 91.417 contained a new requirement for owners and operators of special light-sport aircraft (SLSA) to retain a record of the current status of applicable safety directives and transfer that information at the time of the sale of that aircraft. That information collection requirement had not been approved by OMB at the time of publication.

In accordance with the Paperwork Reduction Act, the FAA submitted a copy of the new information collection requirements to OMB for its review. OMB approved the collection on July 7, 2010, and assigned the information collection OMB Control Number 2120-0730, which expires on July 31, 2013.

This document is being published to inform affected parties of the approval, and to announce that the new information collection requirement of § 91.417 (a) became effective on July 7, 2010.

Issued in Washington, DC, on July 15, 2010.
Pamela Hamilton-Powell,
Director, Office of Rulemaking.

[FR Doc. 2010-17627 Filed 7-19-10; 8:45 am]

BILLING CODE 4910-13-P